SURFACE TRANSPORTATION BOARD

[Docket No. AB 55 (Sub-No. 757X)]

CSX Transportation, Inc.—Discontinuance of Service Exemption—in Dickenson County, VA

CSX Transportation, Inc. (CSXT), has filed a verified notice of exemption under 49 CFR part 1152 subpart F—Exempt Abandonments and Discontinuances of Service to discontinue service over approximately 13.65 miles of rail line from milepost ZF 0.0 to milepost ZF 13.65 on CSXT's Southern Region, Florence Division, Kingsport Subdivision in Dickenson County, Va. (the Line). The Line traverses United States Postal Service Zip Codes 24226, 24228, and 24230. CSXT states that there are 12 internal CSXT stations on the line that can be closed.¹

¹ These stations are at Caney, Cranes Nest DTC, Dickenson, Cranes Nest, Holly Creek, Crabtree, Clintwood Mills, Mullin, Delp, Victor, Lick Fork, and Phipps.

CSXT has certified that: (1) No local traffic has moved over the Line for at least two years; (2) overhead traffic on the Line can be rerouted over other lines; (3) no formal complaint filed by a user of a rail service on the Line (or by a state or local government entity acting on behalf of such user) regarding cessation of service over the Line is either pending with the Surface Transportation Board or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on December 17, 2017, unless stayed pending reconsideration. Petitions to stay that do not involve environmental issues and formal expressions of intent to file an OFA to subsidize continued rail service under 49 CFR 1152.27(c)(2) ² must be filed by November 27, 2017.³ Petitions for reconsideration must be filed by December 7, 2017, with the Surface Transportation Board, 395 E Street SW., Washington, DC 20423-0001.

² Each OFA must be accompanied by the filing fee, which currently is set at $1,800. See Regulations Governing Fees for Servs. Performed in Connection with Licensing & Related Servs.—2017 Update, EP 542 (Sub-No. 25), slip op. App. C at 20 (STB served July 28, 2017).

³ Because this is a discontinuance proceeding and not an abandonment, trail use/rail banking and public use conditions are not appropriate. Because there will be an environmental review during abandonment, this discontinuance does not require environmental review.

A copy of any petition filed with the Board should be sent to CSXT's representative, Louis E. Gitomer, Law Offices of Louis E. Gitomer, LLC, 600 Baltimore Avenue, Suite 301, Towson, MD 21204.

If the verified notice contains false or misleading information, the exemption is void ab initio.

Board decisions and notices are available on our Web site at “WWW.STB.GOV.”

Decided: November 13, 2017.
By the Board, Scott M. Zimmerman, Acting Director, Office of Proceedings.
Tammy Lowery,
Clearance Clerk.

[FR Doc. 2017-24900 Filed 11-16-17; 8:45 am]

BILLING CODE 4915-01-P